DEPARTMENT OF HOUSING AND URBAN DEVELOPMENT

[Docket No. FR-5030-FA-31]

Notice of Funding Awards; Resident Opportunities and Self-Sufficiency Family and Homeownership Program for Fiscal Year 2006

AGENCY: Office of Public and Indian Housing, HUD.

ACTION: Announcement of funding awards.

SUMMARY: In accordance with Section 102(a)(4)(C) of the Department of Housing and Urban Development Reform Act of 1989, this announcement notifies the public of funding decisions made by the Department for funding under the FY 2006 Notice of Funding Availability (NOFA) for the Resident Opportunities and Self-Sufficiency Family and Homeownership Program funding for Fiscal Year 2006. This announcement contains the consolidated names and addresses of those award recipients selected for funding based on the rating and ranking of all applications.

FOR FURTHER INFORMATION CONTACT: For questions concerning the FY 2006 ROSS Family and Homeownership awards, contact the Office of Public and Indian Housing's Grants Management Center, Director, Iredia Hutchinson, Department of Housing and Urban Development, Washington, DC, telephone (202) 402-0221. For the hearing or speech impaired, these numbers may be accessed via TTY (text telephone) by calling the Federal Information Relay Service at (800) 877-8339. (Other than the “800” TTY number, these telephone numbers are not toll-free.)

SUPPLEMENTARY INFORMATION: The authority for the $18,000,000 in four-year budget authority for ROSS Family and Homeownership program coordinators is found in the Transportation, Treasury, Housing and Urban Development, the Judiciary, the District of Columbia, and Independent Agencies Appropriations Act, FY2006 (Pub. L. 109-115). The allocation of housing assistance budget authority is pursuant to the provisions of 24 CFR part 791, subpart D, implementing section 213 (d) of the Housing and Community Development Act of 1974, as amended. Additionally, unobligated funds were added to the $18,000,000.

This program is intended to promote the development of local strategies to coordinate the use of assistance under the ROSS program with public and private resources to enable participating families to achieve economic independence and self-sufficiency. A Public and Indian Housing Program Coordinator assures that program participants are linked to the supportive services they need to achieve self-sufficiency.

The Fiscal Year 2006 awards announced in this Notice were selected for funding in a competition announced in a Federal Register NOFA published on March 8, 2006 (71 FR 3382). Applications were scored based on the selection criteria in that Notice and funding selections made based on the rating and ranking of applications within each state.

In accordance with Section 102(a)(4)(C) of the Department of Housing and Urban Development Reform Act of 1989 (103 Stat. 1987, 42 U.S.C. 3545), the Department is publishing the names, addresses, and amounts of the 105 awards made under the ROSS Family and Homeownership Program competition.

Dated: December 10, 2007.
Orlando J. Cabrera,
Assistant Secretary for Public and Indian Housing.

Appendix A.—Fiscal Year 2006 Funding Awards for the Ross Family Homeownership Program
Recipient | Address | City | State | Zip code | Amount
Mobile Housing Board | 151 South Claiborne Street | Mobile | AL | 36602 | $500,000
Prichard Housing Authority | 4559 St. Stephens Road | Eight Mile | AL | 36613 | 250,000
Tuscaloosa Housing Authority | 2808 10th Avenue | Tuscaloosa | AL | 35403 | 350,000
Housing Authority of Lonoke County | P.O. Box 74, 617 North Greenlaw Street | Carlisle | AR | 72024 | 249,990
City of Phoenix Housing Department | 251 West Washington, 4th Floor | Phoenix | AZ | 85003 | 350,000
Big Pine Paiute Tribe | 825 South Main Street | Big Pine | CA | 93513 | 146,868
Housing Authority of the City of Oxnard | 435 South D Street | Oxnard | CA | 93030 | 250,000
Housing Authority of the County of Kern | 601-24th Street | Bakersfield | CA | 93301 | 150,000
Housing Authority of the County of Riverside | 5555 Arlington Avenue | Riverside | CA | 92504 | 150,000
Housing Authority of the County of San Bernardino | 715 East Brier Drive | San Bernardino | CA | 92408-2841 | 350,000
San Diego Housing Commission | 1625 Newton Avenue | San Diego | CA | 92113 | 350,000
Housing Authority of the City & County of Denver | 777 Grant Street | Denver | CO | 80203 | 500,000
Housing Authority of the City of Bridgeport | 150 Highland Avenue | Bridgeport | CT | 06604 | 350,000
Housing Authority of the City of Hartford | 180 Overlook Terrace | Hartford | CT | 06106 | 249,000
Meriden Housing Authority | 22 Church Street | Meriden | CT | 06451 | 250,000
The Housing Authority of the City of Norwalk | 24½ Monroe Street | Norwalk | CT | 06856-0508 | 250,000
Wilmington Housing Authority | 400 Walnut Street | Wilmington | DE | 19801 | 349,463
Housing Authority of the City of Fort Myers | 4224 Michigan | Fort Myers | FL | 33916 | 250,000
Housing Authority of the City of Orlando, Florida | 24 Fanfair Avenue | Orlando | FL | 32811 | 345,081
Housing Authority of the City of Sarasota | 1300 Boulevard of the Arts | Sarasota | FL | 34236 | 150,000
Jacksonville Housing Authority | 1300 Broad Street | Jacksonville | FL | 32202 | 350,000
Carrollton Housing Authority | 1 Roop Street | Carrollton | GA | 30117 | 250,000
Housing Authority of Columbus, Georgia | P.O. Box 630, 1000 Wynnton Road | Columbus | GA | 31902-0630 | 350,000
Coeur D'alene Tribal Housing Authority | 1005 8th Street | Plummer | ID | 83851 | 250,000
Decatur Housing Authority | 1808 East Locust Street | Decatur | IL | 62521 | 250,000
Rockford Housing Authority | 223 South Winnebago Street | Rockford | IL | 61102 | 350,000
The Housing Authority of the City of Bloomington | 104 East Wood Street | Bloomington | IL | 61701 | 250,000
Housing Authority of the City of Fort Wayne, Indiana | P.O. Box 13489, 2013 South Anthony Boulevard | Fort Wayne | IN | 46803 | 126,821
Indianapolis Housing Agency | 1919 North Meridian Street | Indianapolis | IN | 46202-1303 | 350,000
Lawrence-Douglas County Housing Authority | 1600 Haskell Avenue | Lawrence | KS | 66044 | 250,000
Salina Housing Authority | 469 South 5th Street | Salina | KS | 67401 | 72,081
Housing Authority of Martin | 110 Raymond Griffith Drive, #1101 | Martin | KY | 41649 | 150,000
Housing Authority of Owensboro | 2161 East 19th Street | Owensboro | KY | 42303 | 150,000
Housing Authority of Somerset | P.O. Box 449 | Somerset | KY | 42502-0449 | 150,000
Louisville Metro Housing Authority | 420 South Eighth Street | Louisville | KY | 40203 | 500,000
Cambridge Housing Authority | 675 Massachusetts Avenue | Cambridge | MA | 1776 | 350,000
Commonwealth Tenants Association | 35 Fidelis Way | Brighton | MA | 2135 | 98,925
Lynn Housing Authority & Neighborhood Development | 10 Church Street | Lynn | MA | 1902 | 250,000
Springfield Housing Authority | 25 Saab Court | Springfield | MA | 1104 | 150,000
Housing Authority of Baltimore City | 417 East Fayette Street | Baltimore | MD | 21202 | 814,191
Housing Opportunities Commission of Montgomery County | 10400 Detrick Avenue | Kensington | MD | 20895 | 350,000
Keweenaw Bay Ojibwa Housing Authority | HC 1, Box 486E | L'Anse | MI | 49946 | 149,953
Pontiac Housing Commission | 132 Franklin Boulevard | Pontiac | MI | 48341 | 150,000
Housing Authority of Kansas City, Missouri | 301 East Armour | Kansas City | MO | 64110 | 349,990
Housing Authority of St. Louis County | 8865 Natural Bridge Road | St. Louis | MO | 63121 | 150,000
Housing Authority of the City of Independence, MO | 210 South Pleasant | Independence | MO | 64050 | 249,652
St. Louis Housing Authority | 4100 Lindell Boulevard | St. Louis | MO | 63108 | 350,000
Charlotte Housing Authority | 1301 South Boulevard | Charlotte | NC | 28203 | 500,000
Greensboro Housing Authority | P.O. Box 21287, 450 North Church Street | Greensboro | NC | 27420 | 350,000
Housing Authority of the City of Asheville, NC | P.O. Box 1898, 165 South French Broad Avenue | Asheville | NC | 28801 | 350,000
Housing Authority of the City of High Point | 500 East Russell Avenue | High Point | NC | 27261 | 350,000
Housing Authority of the City of Omaha | 540 South 27th Street | Omaha | NE | 68105 | 246,177
Atlantic City Housing Authority | P.O. Box 1258, 227 North Vermont Avenue, 17th Floor | Atlantic City | NJ | 08401 | 250,000
Housing Authority of the City of Camden | 1300 Admiral Wilson Boulevard | Camden | NJ | 08102 | 293,780
Housing Authority of the Township of Woodbridge | 20 Bunns Lane | Woodbridge | NJ | 07095 | 250,000
Housing Authority of the City of Las Vegas | 340 North 11th Street | Las Vegas | NV | 89101 | 350,000
Binghamton Housing Authority | 35 Exchange Street | Binghamton | NY | 13902 | 250,000
Municipal Housing Authority of the City of Schenectady | 375 Broadway | Schenectady | NY | 12305 | 249,999
New York Agency for Community Affairs | 2-4 Nevins Street, 2nd Floor | Brooklyn | NY | 11217 | 249,894
New York City Housing Authority | 250 Broadway | New York | NY | 10007 | 986,646
Rochester Housing Authority | 675 West Main Street | Rochester | NY | 14611 | 350,000
Syracuse Housing Authority | 516 Burt Street | Syracuse | NY | 13202 | 349,863
White Plains Housing Authority | 223 Dr. Martin Luther King, Jr. Boulevard | White Plains | NY | 10601 | 250,000
Portage Metropolitan Housing Authority | 2832 State Route 59 | Ravenna | OH | 44266 | 250,000
Warren Metropolitan Housing Authority | 990 East Ridge Drive | Lebanon | OH | 45036 | 129,720
Youngstown Metropolitan Housing Authority | 131 West Boardman Street | Youngstown | OH | 44503 | 250,000
Housing Authority of the City of Muskogee | 220 North 40th Street | Muskogee | OK | 74401 | 150,000
Housing Authority of the City of Shawnee, OK | P.O. Box 3427, 601 West 7th Street | Shawnee | OK | 74802-3427 | 214,837
Housing Authority of the City of Tulsa | P.O. Box 6369, 415 East Independence Street | Tulsa | OK | 74148-0369 | 348,607
Housing Authority of Clackamas County | 13930 South Gain Street | Oregon City | OR | 97045 | 250,000
Allegheny County Housing Authority | 625 Stanwix Street, 12th Floor | Pittsburgh | PA | 15222 | 350,000
Housing Authority of the City of Columbia, SC | 1917 Harden Street | Columbia | SC | 29229 | 250,000
Housing Authority of the City of Spartanburg | P.O. Box 2828 | Spartanburg | SC | 29304 | 268,154
North Charleston Housing Authority | 2170 Ashley Phosphate Road, Suite 700 | North Charleston | SC | 29406 | 250,000
Oglala Sioux Tribe Partnership for Housing | P.O. Box 3001 (Old Amublance Building) | Pine Ridge | SD | 57770 | 125,000
Kingsport Housing & Redevelopment Authority | P.O. Box 44 | Kingsport | TN | 37662 | 249,041
Memphis Housing Authority | 700 Adams Avenue | Memphis | TN | 38105 | 350,000
ACORN Institute | 5353 Maple, Suite 200 | Dallas | TX | 75235-8411 | 179,916
ACORN Institute | 5353 Maple, #200 | Dallas | TX | 75235 | 124,915
ACORN Institute | 5353 Maple, #200 | Dallas | TX | 75235-8411 | 124,693
City of San Marcos Housing Authority | 1201 Thorpe Lane | San Marcos | TX | 78666 | 250,000
Housing Authority of the City of Austin | 1124 South IH-35 | Austin | TX | 78704 | 348,122
Housing Authority of the City of Beaumont | 1890 Laurel | Beaumont | TX | 77701 | 250,000
Housing Authority of the City of El Paso | 5300 Paisano Drive | El Paso | TX | 79905 | 500,000
The Housing Authority of Galveston, Texas | 4700 Broadway | Galveston | TX | 77550 | 250,000
The Housing Authority of the City of Dallas, Texas (DHA) | 3939 North Hampton Road | Dallas | TX | 75212 | 500,000
Housing Authority of Salt Lake City | 1776 South West Temple | Salt Lake City | UT | 84115 | 250,000
Chesapeake Redevelopment and Housing Authority | 1468 South Military Highway | Chesapeake | VA | 23320 | 149,335
Danville Redevelopment and Housing Authority | 651 Cardinal Place | Danville | VA | 24541 | 250,000
Fairfax County Redevelopment and Housing Authority | 3700 Pender Drive, Suite 300 | Fairfax | VA | 22030 | 250,000
Franklin Redevelopment & Housing Authority | 601 Campbell Avenue | Franklin | VA | 23851 | 150,000
Norfolk Redevelopment and Housing Authority | 201 Granby Street | Norfolk | VA | 23510 | 500,000
Pleasant View Tenant Association, Inc | 101 Pleasant View Avenue | Danville | VA | 24541 | 125,000
Portsmouth Redevelopment & Housing Authority | 801 Water Street, 2nd Floor | Portsmouth | VA | 23704 | 250,000
Roanoke Redevelopment and Housing Authority | 2624 Salem Turnpike | Roanoke | VA | 24153 | 350,000
Urban League of Greater Richmond, Inc | 511 Grace | Richmond | VA | 23220 | 375,000
Waynesboro Redevelopment and Housing Authority | P.O. Box 1138, 1700 New Hope Road | Waynesboro | VA | 22980 | 250,000
Burlington Housing Authority | 65 Main Street | Burlington | VT | 5401 | 249,798
Hopelink | P.O. Box #3577, 16225 Northeast 87th Street, Suite A-1 | Redmond | WA | 98052 | 125,000
Housing Authority of the City of Tacoma | 902 South L Street | Tacoma | WA | 98405 | 350,000
Housing Authority of the City of Vancouver | 2500 Main Street | Vancouver | WA | 98660 | 250,000
King County Housing Authority | 600 Andover Park West | Tukwila | WA | 98188 | 250,000
The Housing Authority of the City of Everett | 3107 Colby Avenue | Everett | WA | 98201 | 250,000
Ho-Chunk Housing and Community Development Agency | 1116 Monowau | Tomah | WI | 54660 | 150,000
Housing Authority of the City of Milwaukee | 809 North Broadway | Milwaukee | WI | 53202 | 350,000

[FR Doc. E7-25420 Filed 12-28-07; 8:45 am]

BILLING CODE 4210-67-P